DEPARTMENT OF HOMELAND SECURITY

Coast Guard

33 CFR Part 110

[Docket Number USCG-2014-1009]

RIN 1625-AA01

Anchorage Grounds; South Timbalier Anchorages; South of Port Fourchon, LA; Gulf of Mexico

AGENCY: Coast Guard, DHS.

ACTION: Advance notice of proposed rulemaking.

SUMMARY: The Coast Guard is considering establishing two new anchorage grounds in the Gulf of Mexico for the port of Port Fourchon, LA. These actions are being considered to help accommodate increased vessel volume and future increases and improve navigation safety for vessels transiting the Port Fourchon area, providing for the overall safe and efficient flow of vessel traffic and commerce. The Coast Guard is seeking comments and information about what form the proposed regulations should take and the actual need for them.

DATES: Comments and related material must be received by the Coast Guard on or before June 5, 2015.

ADDRESSES: Documents mentioned in this preamble are part of Docket Number USCG-2014-1009. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

You may submit comments, identified by docket number, using any one of the following methods:

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Lieutenant Commander (LCDR) Christopher Tuckey, Waterways Management, Eighth Coast Guard District; telephone (504) 671-2112, email Christopher.B.Tuckey@uscg.mil or Lieutenant (LT) Jon Scott, Chief, Waterways Management Division, Marine Safety Unit Morgan City, U.S. Coast Guard; telephone (985) 380-5334, email Jonathan.J.Scott@uscg.mil. If you have questions on viewing or submitting material to the docket, call Cheryl F. Collins, Program Manager, Docket Operations, telephone (202) 366-9826.

SUPPLEMENTARY INFORMATION:

Table of Acronyms

ANPRM Advance Notice of Proposed Rulemaking

CFR Code of Federal Regulation

DHS Department of Homeland Security

FR Federal Register

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the facility, please enclose a stamped, self-addressed postcard or envelope. We will consider all comments and material received during the comment period and may change the rule based on your comments.

2. Viewing Comments and Documents

To view comments, as well as documents mentioned in this preamble as being available in the docket, go to http://www.regulations.gov, type the docket number in the “SEARCH” box and click “SEARCH.” Click on Open Docket Folder on the line associated with this advanced notice of proposed rulemaking. The following link should take you directly to the docket: http://www.regulations.gov/#!docketDetail;D=USCG-2014-1009. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We have not scheduled a public meeting at this time. Once a public meeting is scheduled, we will publish a notice in the Federal Register separate from this ANPRM but within the same Docket Number USCG-2014-1009.

B. Regulatory History and Information

As reflected in title 33 Code of Federal Regulation section 109.05 (33 CFR 109.05), the Commandant of the U.S. Coast Guard has delegated the authority to establish anchorage grounds to U.S. Coast Guard District Commanders. The Coast Guard establishes Anchorage Grounds under authority of the authority in section 7 of the act of March 4, 1915, as amended (38 Stat. 1053; 33 U.S.C. 471) and places these regulations in Title 33 CFR part 110.1, subpart B. [CGFR 67-46, 32 FR 17728, Dec. 12, 1967, as amended by CGD 86-082, 52 FR 33811, Sept. 8, 1987; USCG-1998-3799, 63 FR 5526, June 30, 1998]. The Coast Guard is now considering a proposed rulemaking to establish two new offshore anchorage grounds. The two new anchorages are referenced in this document as South Timbalier Anchorage West and South Timbalier Anchorage East.

C. Basis and Purpose

The legal basis and authorities for this advance notice of proposed rulemaking are found in 33 U.S.C. 471, 1221 through 1236; 33 CFR 1.05-1, Department of Homeland Security Delegation No. 0170.1, which collectively authorize the Coast Guard to propose, establish, and define regulatory anchorages. The Coast Guard is now considering a proposed rulemaking establishing two offshore anchorage grounds; South Timbalier Anchorage West and South Timbalier Anchorage East.

The Coast Guard received a request from the Greater Lafourche Port Commission and its users to consider the establishment of a suitable anchorage or anchorage areas offshore in the vicinity of Port Fourchon, LA to alleviate and provide relief to vessel traffic and congestion in the port of Port Fourchon, LA. The volume of vessel traffic through Port Fourchon has increased over 30 percent since 2009. We expect continued growth within the Port in the coming years. Additionally, vessels to service the deepwater oil and gas industry continue to grow larger in size. For these reasons, the Coast Guard is considering the request to establish new offshore anchorages. This request was presented and discussed at a Greater Lafourche Port Commission Committee meeting on September 24, 2014, and with the Louisiana Department of Natural Resources on November 13, 2014.

The purpose of this ANPRM is to solicit input and comments on potential proposed rulemakings to help accommodate increased vessel volume and future increases and improve navigation safety for vessels transiting the Port Fourchon area, providing for the overall safe and efficient flow of vessel traffic and commerce. This objective would be to establish offshore anchorages intended to increase the safety of life and property on navigable waters, improve the safety of vessels operating, transiting, or anchored and moored in the vicinity of the port of Port Fourchon and provide for the overall safe and efficient flow of vessel traffic and commerce in the area.

D. Discussion

The Coast Guard is considering establishing two new offshore anchorages supporting the vessel traffic in and around the Port of Port Fourchon, LA area. Preliminary details describing and an image depicting these anchorages are provided below.

The intended users of the proposed anchorages are Offshore Supply Vessels (OSV) and other vessels using or providing services within Port Fourchon, LA and on the outer-continental shelf.

As described by the Executive Director of the Greater Lafourche Parish Port Commission (GLPC), the volume of vessel traffic through Port Fourchon has increased over 30 percent since 2009. The GLPC estimates significant, continued growth in the near future. Due to congestion, Port Fourchon tenant companies and users either direct vessels dynamically position within a berth, Belle Pass, Bayou Lafourche, or Flotation Canal or depart the port entirely until a berth is available. Vessels servicing the deepwater oil and gas industry in and around Port Fourchon continue to grow in length and tonnage. The largest OSV's are 300 feet and over 4,500 Gross Tons. OSV's within Port Fourchon are often moored three or four abreast, requiring constant shifting and repositioning of vessels, crewmembers, and dockworkers, greatly increasing the risks of collisions, groundings, or harm to personnel.

The approximate depths of the proposed anchorages range from 36 feet to 60 feet, which will accommodate a variety of vessel types and configurations. The nearest safety fairways are the Belle Pass Safety Fairway approximately 3 nautical miles to the east and the Southwest Pass to Gulf Safety Fairway approximately 50 nautical miles to the south.

Based on National Automatic Identification System data, establishing an anchorage in the proposed location will have negligible effects on customary shipping lanes.

Contemplated South Timbalier Anchorage West Location

We are considering proposing that the South Timbalier Anchorage West would cover an area 7 nautical miles long by 5 nautical miles wide. Also, we are contemplating the following boundaries for the anchorage:

• The western boundary would match the western boundary of South Timbalier blocks 16 and 33;

• The eastern boundary would match eastern boundary of South Timbalier blocks 18 and 31;

• The northern boundary would match the northern boundary of South Timbalier blocks 16, 17, and 18; and

• The southern boundary would match the southern boundary of South Timbalier blocks 31, 32, and 33.

The anchorage we are contemplating may also be represented by drawing rhumb lines joining points at:

Latitude | Longitude
29°2′0.492″ N | 90°30′28.619″ W.
29°2′0.492″ N | 90°22′48.216″ W.
28°57′13.895″ N | 90°22′48.216″ W.
28°57′13.895″ N | 90°30′28.619″ W.

Contemplated South Timbalier Anchorage East Location

We are considering proposing that the South Timbalier Anchorage East would cover an area 5 nautical miles wide by 5 nautical miles deep. The following are the contemplated proposed boundaries for the anchorage.

The western boundary would match the western boundary of South Timbalier blocks 20 and 29.

The eastern boundary would match the eastern boundary of South Timbalier blocks 21 and 28.

The northern boundary would match the northern boundary of South Timbalier blocks 20 and 21.

The southern boundary would match the southern boundary of South Timbalier blocks 29 and 28.

The South Timbalier Anchorage East anchorage we are contemplating may also be represented may by drawing rhumb lines joining points at:

Latitude | Longitude
29°2′0.492″ N | 90°20′3.299″ W.
29°2′0.492″ N | 90°15′0.287″ W.
28°57′13.895″ N | 90°15′0.287″ W.
28°57′13.895″ N | 90°20′3.299″ W.

We have also placed illustrations of the currently contemplated offshore anchorage grounds in the docket (http://www.regulations.gov/#!docketDetail;D=USCG-2014-1009). Look for a supporting document with “Illustrations” in its title.

In a letter to the National Oceanographic and Atmospheric Administration, the Coast Guard will request that the Office of Coast Survey ensure the suitability and safety of the contemplated anchorage grounds. Additionally, the Coast Guard is coordinating with the Bureau of Ocean Energy Management, the Bureau of Safety and Environmental Enforcement, and the State of Louisiana's Department of Natural Resources to verify the location of existing pipeline corridors.

The contemplated anchorage area is larger than the envisioned final anchorage. This advance notice of proposed rulemaking is intended to prompt discussion and gather input from the affected marine industries to determine the most appropriate anchorage within the contemplated area.

E. Information Requested

Public participation is requested to assist in determining the best way forward in developing a proposed rulemaking to establish these offshore anchorages. To aid us in developing a proposed rule, we seek any comments, whether positive or negative, including but not limited to the impacts anchorage areas may have on navigation safety and current vessel traffic in this area.

Please submit any comments or concerns you may have in accordance with the “submitting comments” section above.

This document is issued under authority of 5 U.S.C. 552; 33 CFR 1.05-1, and 1.05-30.

Dated: March 17, 2015.
K.S. Cook,
Rear Admiral, U.S. Coast Guard, Commander, Eighth Coast Guard District.

[FR Doc. 2015-07847 Filed 4-3-15; 8:45 am]

BILLING CODE 9110-04-P